DEPARTMENT OF COMMERCE

Foreign-Trade Zones Board

[S-18-2022]

Foreign-Trade Zone 123—Denver, Colorado; Application for Subzone; Kaiser Premier, LLC; Fort Morgan, Colorado

An application has been submitted to the Foreign-Trade Zones (FTZ) Board by the City and County of Denver, grantee of FTZ 123, requesting subzone status for the facilities of Kaiser Premier LLC, located in Fort Morgan, Colorado. The application was submitted pursuant to the provisions of the Foreign-Trade Zones Act, as amended (19 U.S.C. 81a-81u), and the regulations of the FTZ Board (15 CFR part 400). It was formally docketed on February 9, 2022.

The proposed subzone would consist of the following sites: Site 1 (.77 acres) Factory 2—2550 East Bijou Avenue, Fort Morgan; Site 2 (.11 acres) Warehouse—2431 East Beaver Avenue, Fort Morgan; and Site 3 (.90 acres) Factory 3—404 Industry Dr., Fort Morgan. Production activity was authorized for Kaiser Premier LLC on August 17, 2021 under now-lapsed FTZ 293 (Doc. B-33-2021). The proposed subzone would be subject to the existing activation limit of FTZ 123.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is March 28, 2022. Rebuttal comments in response to material submitted during the foregoing period may be submitted during the subsequent 15-day period to April 11, 2022.

A copy of the application will be available for public inspection in the “Online FTZ Information Section” section of the FTZ Board's website, which is accessible via www.trade.gov/ftz.

For further information, contact Qahira El-Amin at Qahira.El-Amin@trade.gov.

Dated: February 9, 2022.
Andrew McGilvray,
Executive Secretary.

[FR Doc. 2022-03174 Filed 2-14-22; 8:45 am]

BILLING CODE 3510-DS-P